DEPARTMENT OF TRANSPORTATION

Federal Aviation Administration

14 CFR Part 39

[Docket No. 2002-NM-246-AD; Amendment 39-13854; AD 2004-22-26]

RIN 2120-AA64

Airworthiness Directives; Airbus Model A330, A340-200, and A340-300 Series Airplanes

AGENCY: Federal Aviation Administration, DOT.

ACTION: Final rule.

SUMMARY: This amendment adopts a new airworthiness directive (AD), applicable to certain Airbus Model A330, A340-200, and A340-300 series airplanes. This AD requires repetitive inspections for evidence of corrosion and sheared attachment bolts of the sensor struts at flap track 4 on the left and right sides of the airplane; related investigative and corrective actions as necessary; and a terminating action for the repetitive inspections, by requiring the eventual replacement of all sensor struts with new, improved sensor struts that are less sensitive to corrosion. The actions specified by this AD are intended to prevent loss of the sensor strut function, resulting in the inability to detect flap drive disconnection at flap track stations 4 and 5, which could lead to separation of the outboard flap from the airplane, and consequent reduced controllability of the airplane. This action is intended to address the identified unsafe condition.

DATES: Effective December 14, 2004.

The incorporation by reference of certain publications listed in the regulations is approved by the Director of the Federal Register as of December 14, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to certain Airbus Model A330, A340-200, and A340-300 series airplanes, was published as a supplemental notice of proposed rulemaking (NPRM) in the Federal Register on September 2, 2004 (69 FR 53658). That action proposed to require repetitive inspections for evidence of corrosion and sheared attachment bolts of the sensor struts at flap track 4 on the left and right sides of the airplane; related investigative and corrective actions as necessary; and a terminating action for the repetitive inspections, by requiring the eventual replacement of all sensor struts with new, improved sensor struts that are less sensitive to corrosion. That action also proposed to change the threshold for the initial inspection and reduce the compliance time for the terminating action of the original NPRM.

Comments

Interested persons have been afforded an opportunity to participate in the making of this amendment. No comments were submitted in response to the proposal or the FAA's determination of the cost to the public.

Change to This Final Rule

The date of the original issue of Airbus Service Bulletin A330-27-3091 has been corrected in paragraph (e) of this AD. The date on the actual original issue of the service bulletin is February 6, 2002. The revision history in Revisions 01, 02, and 03 of the service bulletin, and the dates on those revisions, indicate that the date of the original issue of the service bulletin is February 2, 2002. The wrong date was inadvertently cited in the NPRM and supplemental NPRM.

Conclusion

We have determined that air safety and the public interest require the adoption of the rule with the change described previously. This change will neither increase the economic burden on any operator not increase the scope of the AD.

Cost Impact

We estimate that 9 Airbus Model A330 airplanes of U.S. registry will be affected by this AD.

It will take 1 work hour per airplane to accomplish the repetitive inspections, at an average labor rate of $65 per work hour. Based on these figures, the cost impact of the inspections on U.S. operators is estimated to be $585, or $65 per airplane, per inspection cycle.

If required, it will take approximately 3 work hours per airplane to accomplish the replacement of discrepant sensor struts and attachment bolts, at an average labor rate of $65 per work hour. The cost for required parts will be nominal. Based on these figures, the cost impact of the replacement of sensor struts will be $195 per airplane.

It will take approximately 2 work hours per airplane to accomplish the installation of the new, improved sensor struts, at an average labor rate of $65 per work hour. The cost of required parts will be $8,400. Based on these figures, the cost impact of the installation on U.S. operators is estimated to be $76,770, or $8,530 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it will take approximately 1 work hour per airplane to accomplish the inspection, at an average labor rate of $65 per work hour. Based on these figures, the cost impact of the inspection for Model A340 operators will be $65 per airplane, per inspection cycle.

Should an Airbus Model A340 series airplane be imported and placed on the U.S. Register in the future and have affected sensor struts and attachment bolts replaced, it will take approximately 3 work hours, at an average labor rate of $65 per work hour. The cost for required parts will be nominal. Based on these figures, the cost impact of the replacement of sensor struts for Model A340 operators will be $195 per airplane.

Should an Airbus Model A340 series airplane be imported and placed on the U.S. Register in the future and have new, improved sensor struts installed, it would take approximately 2 work hours, at an average labor rate of $65 per work hour. The cost for required parts will be $8,400. Based on these figures, the cost impact of the installation for Model A340 operators would be $8,530 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-26 Airbus: Amendment 39-13854. Docket 2002-NM-246-AD.

Applicability: Model A330 series airplanes; and Model A340-200 and A340-300 series airplanes; certificated in any category; except those airplanes on which Airbus Modification 48579 was incorporated in production.

Compliance: Required as indicated, unless accomplished previously.

To prevent loss of the sensor strut function, resulting in the inability to detect flap drive disconnection at flap track stations 4 and 5, which could lead to separation of the outboard flap from the airplane, and consequent reduced controllability of the airplane; accomplish the following:

Inspection

(a) At the latest of the times specified in paragraphs (a)(1), (a)(2), and (a)(3) of this AD: Do an inspection, by applying hand force to the piston of the sensor struts and moving the sensor struts longitudinally, for evidence of corrosion in the sensor struts at flap track 4, on the left and right sides of the airplane, by doing all the applicable actions specified in the Accomplishment Instructions of Airbus Service Bulletin A330-27-3091, Revision 03 (for Model A330 series airplanes); or Service Bulletin A340-27-4097, Revision 03 (for Model A340-200 and -300 series airplanes); both dated January 16, 2004; as applicable. If the longitudinal travel range is 60.0 millimeters (2.36 inches) or more: Repeat the inspection thereafter at intervals not to exceed 18 months, until the requirements of paragraph (d) of this AD are accomplished.

(1) Within 18 months since the date of issuance of the original Airworthiness Certificate or the date of issuance of the original Export Certificate of Airworthiness, whichever occurs first.

(2) Within 2,800 flight hours after the effective date of this AD.

(3) Within 6 months after the effective date of this AD.

Related Investigative and Corrective Actions

(b) If the result of the inspection required by paragraph (a) of this AD is a longitudinal travel range of less than 60.0 mm (2.36 inches): Before further flight, remove all affected sensor struts, and measure the axial force of any affected sensor struts, by doing all of the applicable actions per the Accomplishment Instructions of Airbus Service Bulletin A330-27-3091, Revision 03 (for Model A330 series airplanes); or Service Bulletin A340-27-4097, Revision 03 (for Model A340-200 and -300 series airplanes); both dated January 16, 2004; as applicable.

(1) If the axial force F is less than or equal to 50 daN (112.41 lbf.): Clean and re-install the sensor struts per the Accomplishment Instructions of the applicable service bulletin. Repeat the inspection required by paragraph (a) of this AD thereafter at intervals not to exceed 18 months, until the requirements of paragraph (d) of this AD are accomplished.

(2) If the axial force F is more than 50 daN (112.41 lbf.): Before further flight, do a detailed inspection for cracking and/or deformation of the adjacent structure and attachment parts per the Accomplishment Instructions of the applicable service bulletin.

(i) If no cracking and/or deformation is found: Re-install the sensor struts and within 25 flight cycles after the inspection required by paragraph (b) of this AD, replace the sensor struts and attachment bolts per the Accomplishment Instructions of the applicable service bulletin. Repeat the inspection required by paragraph (a) of this AD thereafter at intervals not to exceed 18 months, until the requirements of paragraph (d) of this AD are accomplished.

(ii) If any cracking and/or deformation is found: Before further flight, repair any cracked or deformed structure and attachment parts per a method approved by either the Manager, International Branch, ANM-116, FAA, Transport Airplane Directorate; or the Direction Générale de l'Aviation Civile (or its delegated agent); and replace the sensor struts and attachment bolts per the Accomplishment Instructions of the applicable service bulletin. Repeat the inspection required by paragraph (a) of this AD thereafter at intervals not to exceed 18 months, until the requirements of paragraph (d) of this AD are accomplished.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Concurrent Requirements

(c) The actions required by paragraphs (a) and (b) of this AD must be done before or concurrently with the requirements of paragraph (d) of this AD. Replacement of any sensor strut with a sensor strut having part number (P/N) F5757492600000, during accomplishment of paragraph (b) of this AD, is acceptable for compliance with paragraph (d) of this AD, for that strut.

Terminating Action

(d) Within 30 months after the effective date of this AD: Replace all existing sensor struts with new, improved sensor struts having P/N F5757492600000 per the Accomplishment Instructions of Airbus Service Bulletin A330-27-3092 (for Model A330 series airplanes); or Service Bulletin A340-27-4098 (for Model A340-200 and -300 series airplanes); both dated February 14, 2003; as applicable. Accomplishment of this replacement constitutes terminating action for the repetitive inspections required by paragraphs (a) and (b) of this AD.

Actions Done per Previous Issue of Service Bulletins

(e) Accomplishment of the specified actions before the effective date of this AD per Airbus Service Bulletin A330-27-3091, dated February 6, 2002, Revision 01, dated May 17, 2002, or Revision 02, dated September 5, 2002; or A340-27-4097, dated February 6, 2002, Revision 01, dated May 17, 2002, or Revision 02, dated September 5, 2002; as applicable; is considered acceptable for compliance with the applicable requirements of paragraphs (a) and (b) of this AD.

Submission of Information Not Required

(f) Although the service bulletins specify to send inspection results to the manufacturer, that action is not required by this AD.

Alternative Methods of Compliance

(g) In accordance with 14 CFR 39.19, the Manager, International Branch, ANM-116, FAA, Transport Airplane Directorate, is authorized to approve alternative methods of compliance for this AD.

Incorporation by Reference

(h) Unless otherwise specified in this AD, the actions shall be done in accordance with the applicable Airbus service bulletins listed in Table 1 of this AD.

Table 1.—Service Bulletins Incorporated by Reference
Airbus service bulletin | Revision level | Date
A330-27-3091 | 03 | Jan. 16, 2004.
A330-27-3092 | Original | Feb. 14, 2003.
A340-27-4097 | 03 | Jan. 16, 2004.
A340-27-4098 | Original | Feb. 14, 2003.

This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directives F-2003-425 and F-2003-426, both dated December 10, 2003.

Effective Date

(i) This amendment becomes effective on December 14, 2004.

Issued in Renton, Washington, on October 26, 2004.
Ali Bahrami,
Manager, Transport Airplane Directorate, Aircraft Certification Service.

[FR Doc. 04-24625 Filed 11-8-04; 8:45 am]

BILLING CODE 4910-13-P